DEPARTMENT OF COMMERCE

International Trade Administration

Opportunity To Comment on the Modernization of the Export Promotion Services and Assistance Delivered by the U.S. and Foreign Commercial Service

AGENCY: International Trade Administration, Department of Commerce.

ACTION: Request for comments.

SUMMARY: The U.S. Department of Commerce's International Trade Administration (ITA) includes the U.S. and Foreign Commercial Service (CS), which assists and advocates for U.S. businesses in international markets to foster U.S. economic prosperity. Utilizing its network of trade promotion and policy professionals located in 79 countries and 106 U.S. locations, CS promotes U.S. exports, especially among small and medium-sized enterprises; advances and protects U.S. commercial interests overseas; and attracts inward investment into the United States. CS is seeking feedback from the general public—including businesses that are new to exporting or not currently exporting—on ways to modernize services for the 21st century. CS is reviewing its services to assess their effectiveness in meeting the needs of U.S. exporters and identify opportunities to innovate and enhance services offered, with the objective of driving U.S. innovation and global competitiveness by increasing U.S. exports and ensuring more U.S. regions benefit, as well as workers and businesses from underserved communities.

DATES: Comments must be received by 5 p.m. EDT, 30 days from publication, for consideration in the immediate review.

ADDRESSES: Respondents are encouraged to provide feedback electronically at: https://trade.gov/cs-innovate. Respondents who do not wish to submit feedback via the website may submit written comments to the point of contact identified below.

FOR FURTHER INFORMATION CONTACT: Mr. Carlos Ortiz, International Trade Administration, Global Markets, Office of Strategy & Engagement, 1401 Constitution Avenue NW, Rm. 21022, Washington, DC 20230, Phone: (202) 768-0821, Email: carlos.ortiz@trade.gov.

SUPPLEMENTARY INFORMATION: CS launched this review of the services it provides to ensure services are designed to meet the needs of the U.S. exporters and the business community in the future. These services are intended to provide the resources and assistance that U.S. businesses need to successfully research, evaluate, and expand into global markets. Public feedback will help ITA to better understand what assistance is most helpful and to identify opportunities to innovate and enhance the types of services and delivery methods offered by CS (e.g., virtual versus in-person). The service review includes:

• Resources that equip U.S. businesses with the knowledge to achieve their export objectives, such as market research by industry or country.

• Fee-based services that provide businesses with standardized or customized assistance for attracting and connecting with foreign buyers. Fee-based services include business-to-business matchmaking, promotional events and campaigns, and individualized market research.

• Trade events such as trade missions and educational seminars; additional services offered at trade events and trade shows include business-to-business matchmaking and export counseling. CS Staff also recruit international buyer delegations to attend U.S. trade shows, and help businesses expand global sales at trade events.

• Other direct or indirect support provided by the CS.

Please visit Export Solutions for a better understanding of all the services and assistance the CS provides to the U.S. business and export community.

To submit feedback, complete the following questions (OMB Control Number 0625-0275, expiration date 31 December 2024) and submit them to carlos.ortiz@trade.gov:

1. What assistance would be most useful or important to your business?

2. What assistance is most difficult to obtain?

3. What assistance do you think we (the ITA/CS) need to provide?

4. If you are a U.S. based company, what is your zip code?

5. How would you describe your level of exporting experience?

○ Not Yet Exporting

○ New to Export

○ Experienced Exporter

○ N/A

6. Is your company . . . (check all that apply)

○ Woman-owned

○ Veteran-owned

○ Minority-owned

○ Disabled-owned

For additional information about current CS services and assistance, please see the following resources.

a. https://www.trade.gov/all-services: This site provides a listing of the export and investment services available from the CS.

b. https://trade.gov/attend-event: This site allows visitors to search all CS events by type of event, industry, or location.

c. https://www.trade.gov/us-commercial-service-user-fees: This site provides a full listing of the CS user fee schedule for export and investment promotion services.

d. https://trade.gov/export-solutions: This site provides practical advice and business tools to help U.S. companies expand in global markets.

For reference, CS currently provides the following fee-based export assistance and services:

e. Business Service Provider: The Business Service Provider is an online program to help U.S. exporters identify professional export service providers to support them in the assessment, financing, or completion of an export transaction.

f. Certified Trade Mission: The Certified Trade Mission program offers services to support overseas events that are planned, organized, recruited, and led by private and public sector export-oriented groups outside of the U.S. Department of Commerce.

g. Conference: Conferences are events organized by CS to provide U.S. firms with export knowledge and/or market intelligence from experts located around the globe or to advertise the opportunities for investment promotion to foreign companies.

h. Contact List: The Contact List service provides U.S. firms with a contact list of five (5) to ten (10) potential agents, distributors, and partners in a foreign market.

i. Customized Market Research: The Customized Market Research service provides answers beyond general counseling/market research to client questions specific to their products/services in a market.

j. Featured U.S. Exporter: The Featured U.S. Exporters Listing service provides U.S. companies with an opportunity to enhance their international marketing efforts through improved search engine optimization.

k. Foreign Buyer Delegation: The Foreign Buyer Delegation service offers resources to foreign buyer delegates to U.S. trade events seeking U.S. suppliers of goods/services.

l. Gold Key Service: The Gold Key Service provides U.S. firms traveling to a foreign market with appointments to establish relationships with pre-screened potential overseas agents, distributors, sales representatives, business partners, and other local entities in-country.

m. Initial Market Check: The Initial Market Check service is an initial assessment of the market potential of a client's product or service in a targeted market.

n. International Company Profile: The International Company Profile service provides U.S. companies with in-depth background check information on a specific foreign company to help determine its suitability as a potential business partner.

o. International Partner Search: The International Partner Search service provides U.S. companies with a list of up to five (5) potential agents, partners, or distributors that have expressed an interest in the client's product or service.

p. International Partner Search + Virtual Introductions: The International Partner Search + Virtual Introductions service provides the same as the International Partner Search service listed above, but also includes virtual introductions via conference calls with up to five of the contacts identified.

q. Official Letter: The Official Letter service issues official letters to U.S. businesses when necessary for businesses to comply with local regulatory requirements to conduct business in these local markets.

r. Other Services/Events: The Other Service and Event offering provides clients with export or investment promotion assistance within the scope of CS authorities that is not within the scope of one of the CS standard service offerings.

s. Seminar: Seminars are events organized by CS offices to provide U.S. firms with export knowledge and/or market intelligence from experts located around the globe or to advertise the opportunities for investment promotion to foreign companies.

t. Single Company Promotion: The Single Company Promotion service provides U.S. companies with promotional services to help increase the awareness of their product/service in a specific market.

u. Trade Event: Trade events are events organized by CS offices to help U.S. businesses navigate the increasingly complex global marketplace.

v. Trade Show Representation: The Trade Show Representation service provides U.S. companies and economic development organizations with the ability to increase their marketing exposure at an overseas trade show when they are unable to attend in person.

w. Virtual Introduction: The Virtual Introduction service provides U.S. companies with a virtual introduction via conference call or email to a foreign buyer/partner that they have pre-identified.

x. Virtual Fair: The Virtual Fair service provides a group of U.S. entities with an opportunity to promote their products/services to potential partners in a foreign market live via a webinar platform.

y. Webinar: Webinars are events organized by CS offices to provide U.S. firms with export knowledge and/or market intelligence from experts located around the globe or to advertise the opportunities for investment promotion to foreign companies.

z. Website Globalization: The website Globalization Review Gap Analysis service provides technical and strategic assessment of a business's eCommerce sales channel efforts.

The Department of Commerce will utilize the input received to determine opportunities for updating ITA/CS's export promotion service and assistance. Once finalized, proposed updates to ITA/CS's export promotion services and assistance will be shared with the public through the Federal Register Portal and on www.trade.gov.

OMB Number: 0625-0275.

Expiration Date: 12/31/2024.

A Federal agency may not conduct or sponsor, and a person is not required to respond to, nor shall a person be subject to a penalty for failure to comply with an information collection subject to the requirements of the Paperwork Reduction Act of 1995 unless the information collection has a currently valid OMB Control Number. The approved OMB Control Number for this information collection is 0625-0275. Without this approval, we could not conduct this survey. Public reporting for this information collection is estimated to be approximately five minutes per response, including the time for reviewing instructions, searching existing data sources, gathering and maintaining the data needed, and completing and reviewing the information collection. All responses to this information collection are voluntary. Send comments regarding this burden estimate or any other aspect of this information collection, including suggestions for reducing this burden to the ITA Paperwork Reduction Act Program at pra@trade.gov if desired.

Carlos Ortiz,
Director, Customer Experience & Services/Events Management.

[FR Doc. 2023-14418 Filed 7-6-23; 8:45 am]

BILLING CODE 3510-FP-P